DEPARTMENT OF AGRICULTURE

[Docket No. FPAC-2024-0001]

Federal Award Performance Monitoring and Reporting Form

AGENCY: Farm Production and Conservation Business Center, USDA.

ACTION: Notice; request for comments.

SUMMARY: In accordance with the Paperwork Reduction Act requirements, the Farm Production and Conservation (FPAC) is requesting comments from all interested individuals and organizations on a new information collection request for the FPAC Federal Award Performance Monitoring and Reporting Form in support of the implementation of Performance Measurement.

DATES: We will consider comments that we must be received by June 24, 2024.

ADDRESSES: We invite you to submit comments on this notice. You may submit comments, identified by Docket ID: FPAC-2024-0001, in the Federal eRulemaking Portal: Go to http://www.regulations.gov. Follow the online instructions for submitting comments. Comments will be available for viewing online at regulations.gov.

You may also send comments to the Desk Officer for Agriculture, Office of Information and Regulatory Affairs, Office of Management and Budget, Washington, DC 20503.

Copies of the information collection may be requested by contacting Kenneth James.

FOR FURTHER INFORMATION CONTACT: Kenneth James; telephone: (517) 318-3188; email: Kenneth.James@usda.gov. Individuals who require alternative means for communication should contact the USDA TARGET Center at (202) 720-2600 (voice and text telephone (TTY)) or dial 711 for Telecommunications Relay service (both voice and text telephone users can initiate this call from any telephone).

SUPPLEMENTARY INFORMATION:

Title: FPAC Federal Award Performance Monitoring and Reporting Form.

OMB Control Number: 0565-New.

Type of Request: New.

Abstract: FPAC will use the Federal Award Performance Monitoring and Reporting Form to support the implementation of section 301 of 2 CFR part 200, Performance Measurement. This section of the Uniform Administrative Requirements, Cost Principles, and Audit Requirements for Federal Awards, 2 CFR 200, requires Federal Agencies to measure recipients' accomplishments against performance goals and objectives. Performance reporting allows the Federal Agency to share lessons learned, improve program outcomes, and foster adoption of promising practices. In addition, performance reporting frequency and content is established to not only allow the Federal awarding agency to understand the recipient progress, but also to facilitate identification of promising practices among recipients and build the evidence upon which the Federal awarding agency's program and performance decisions are made.

This information must be collected with the frequency required by the terms and conditions of the Federal award, but no less frequently than annually and not more frequently than quarterly except in unusual circumstances. The information collection, FPAC Federal Award Performance Monitoring and Reporting Form, will support the FPAC Business Center (BC), Farm Service Agency (FSA), Commodity Credit Corporation (CCC), Natural Resources Conservation Service (NRCS), and Risk Management Agency (RMA) in obtaining required Federal award performance information from recipients. This form will replace the discontinued “Standard Form (SF) Performance Progress Report” which had previously been used to collect this data.

Applicable award recipients must submit performance data using the FPAC Federal Award Performance Monitoring and Reporting Form. Recipients will use this form to:

1. Show accomplishments, including providing a status of work completed, and comparing accomplishments to the project's goals and objectives;

2. Provide reasons and recommend solutions when differences exist between accomplishments and the project's goals and objectives;

3. Provide a status of expenditures;

4. Describe any problems or adverse conditions that are having a negative impact on the project;

5. Describe any pending or proposed changes to the agreement;

6. Summarize future work planned during the next reporting period; and

7. List any recently completed or ongoing subrecipient monitoring activities.

The recipients can be City or township governments, County governments, For-profit organizations other than small businesses, Independent school districts, Native American tribal governments (Federally recognized), Native American tribal organizations (other than Federally recognized tribal governments), Nonprofits having a 501(c)(3) status with the IRS (other than institutions of higher education), Nonprofits that do not have a 501(c)(3) status with the IRS (other than institutions of higher education), Private institutions of higher education, Public and State-controlled institutions of higher education, Public housing authorities or Indian housing authorities, Small businesses, Individuals, Special district governments, agricultural producer associations, farmer cooperatives, special service districts, or State governments.

For the following estimated total annual burden on respondents, the formula used to calculate the total burden hours is the estimated average time per response multiplied by the estimated total annual number of responses.

Estimate of Average Time to Respond: Public reporting burden for collecting information under this notice is estimated to average 45 minutes per response (0.75), including the time for reviewing instructions, searching existing data sources, gathering and maintaining the data needed, and completing and reviewing the collection of information.

Type of Respondents: Individual or Household, Private Sectors: Businesses or other for-profits; Farms, Not-for-profits institution, and State, Local and Tribal Government.

Estimated Number of Respondents: 4,000.

Estimated Average Number of Responses per Respondent: 2.

Estimated Total Annual Responses: 8,000.

Estimated Average Time per Response: 0.75 hour.

Estimated Total Annual Burden on Respondents: 6,000 hours.

FPAC is requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility, and clarity of the information collection; and

(4) Minimize the burden of the information collection on those who respond through the use of appropriate automated, electronic, mechanical, or other technological collection techniques or other forms of information technology.

All comments received in response to this notice, including names and addresses where provided, will be anonymous. Comments will be summarized and included in the request for OMB approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Scott Linsky,
Acting Deputy Chief Operating Officer, USDA Farm Production and Conservation Business Center.

[FR Doc. 2024-08854 Filed 4-24-24; 8:45 am]

BILLING CODE 3411-E2-P